ENVIRONMENTAL PROTECTION AGENCY

[EPA-HQ-OAR-2007-0269; FRL 9929-63-OEI]

Information Collection Request Submitted to OMB for Review and Approval; Comment Request; Transportation Conformity Determinations for Federally Funded and Approved Transportation Plans, Programs and Projects (Renewal)

AGENCY: Environmental Protection Agency (EPA).

ACTION: Notice.

SUMMARY: The Environmental Protection Agency has submitted an information collection request (ICR), “Transportation Conformity Determinations for Federally Funded and Approved Transportation Plans, Programs and Projects (Renewal)” (EPA ICR No. 2130.05, OMB Control No. 2060-0561) to the Office of Management and Budget (OMB) for review and approval in accordance with the Paperwork Reduction Act (44 U.S.C. 3501 et seq.). This is a proposed extension of the ICR, which is approved through August 31, 2015. Public comments were previously requested via the Federal Register (80 FR 9454) on February 23, 2015 during a 60-day comment period. This notice allows for an additional 30 days for public comments. A fuller description of the ICR is given below, including its estimated burden and cost to the public.

DATES: Additional comments may be submitted on or before September 23, 2015.

ADDRESSES: Submit your comments, referencing Docket ID Number EPA-HQ-OAR-2007-0269, to (1) EPA online using www.regulations.gov (our preferred method) or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Astrid Larsen, Transportation and Climate Division, State Measures and Transportation Planning Center, Environmental Protection Agency, 2000 Traverwood Drive, Ann Arbor, MI 48105; telephone number: 734-214-4812; fax number: 734-214-4052; email address: larsen.astrid@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Transportation conformity is required under Clean Air Act section 176(c) (42 U.S.C. 7506(c)) to ensure that federally supported transportation activities are consistent with the purpose of the State Air Quality Implementation plan (SIP). Transportation activities include transportation plans, Transportation Improvement Programs (TIPs), and federally funded or approved highway or transit projects. Conformity to the purpose of the SIP means that transportation activities will not cause or contribute to new air quality violations, worsen existing violations, or delay timely attainment of the relevant National Ambient Air Quality Standards (NAAQS) or interim milestones. Transportation conformity applies under EPA's conformity regulations at 40 CFR part 93, subpart A, to areas that are designated nonattainmentand to those redesignated to attainment after 1990 for the following transportation-related criteria pollutants: Ozone, particulate matter (PM2.5 and PM10), carbon monoxide (CO), and nitrogen dioxide (NO2). The EPA published the original transportation conformity rule on November 24, 1993 (58 FR 62188), and subsequently published several revisions. EPA develops the conformity regulations in coordination with the Federal Highway Administration (FHWA) and Federal Transit Administration (FTA). The federal government needs information collected under these regulations to ensure that metropolitan planning organization (MPO) and federal transportation actions are consistent with state air quality goals.

Form Numbers: None.

Respondents/affected entities: Metropolitan Planning Organizations (MPOs), local transit agencies, state departments of transportation, and state and local air quality agencies.

Respondent's obligation to respond: Mandatory (Clean Air Act section 176(c) ((42 U.S.C. 7506(c)) and 40 CFR parts 51 and 93).

Estimated number of respondents: 126 (total).

Frequency of response: Annually, occasionally.

Total estimated burden: 60,548 hours (per year). Burden is defined at 5 CFR 1320.03(b).

Total estimated cost: $3,596,553 (per year), includes zero annualized capital or operation & maintenance costs.

Changes in the estimates: There is a decrease of 27,856 hours in the total estimated respondent burden compared with the ICR currently approved by OMB. This decrease is due to an adjustment in project level conformity, decreased transportation conformity analysis, and a transition from MOVES2010 to MOVES 2014.

Courtney Kerwin,
Acting Director, Collection Strategies Division.

[FR Doc. 2015-20786 Filed 8-21-15; 8:45 am]

BILLING CODE 6560-50-P